DEPARTMENT OF COMMERCE

National Oceanic and Atmospheric Administration

RIN 0648-XD936

Western Pacific Fishery Management Council; Public Meeting

AGENCY: National Marine Fisheries Service (NMFS), National Oceanic and Atmospheric Administration (NOAA), Commerce.

ACTION: Notice of public meeting.

SUMMARY: The Western Pacific Fishery Management Council (Council) will hold the Second Meeting of its Protected Species Advisory Committee (PSAC) in Honolulu, HI. The PSAC will receive updates on fishery management actions and protected species activities, review protected species interactions in the Hawaii longline fishery, discuss monitoring of Fishery Ecosystem Plans (FEP) through annual reports, and review the Council's research priorities related to protected species. The PSAC may make recommendations on these topics.

DATES: The PSAC meeting will be held between 9 a.m. and 5 p.m. on May 27-28, 2015.

ADDRESSES: The meeting will be held at the Council Office Conference Room, 1164 Bishop Street, Suite 1400, Honolulu, HI; telephone: (808) 522-8220.

FOR FURTHER INFORMATION CONTACT: Kitty M. Simonds, Executive Director; telephone: (808) 522-8220.

SUPPLEMENTARY INFORMATION: Public comment opportunity will be provided. The order in which agenda items are addressed may change. The meetings will run as late as necessary to complete scheduled business.

Agenda:

9 a.m., Wednesday, May 27, 2015

1. Welcome and Introductions

2. Approval of Agenda

3. Status of the First Protected Species Advisory Committee Meeting Recommendations

4. Fishery Management Updates

A. Recent Council Actions

i. American Samoa Large Vessel Prohibited Area Temporary Exemption

ii. Other Pelagic Fisheries Actions

iii. Insular Fisheries Actions

iv. Discussion

B. Endangered Species Act (ESA) Section 7 Consultations

i. Overview of Section 7 Consultations

ii. Biological Opinion for the Hawaii Deep-set Longline Fishery and Related Marine Mammal Protection Act Permit

iii. Consultation for the American Samoa Longline Fishery

iv. Consultations on Corals and Scalloped Hammerhead Shark

v. Discussion

5. Protected Species Updates

A. Council Protected Species Activities Update

B. NMFS Protected Species Activities Update

C. Green Turtle Status Review and Proposed Rule

D. Humpback Whale Status Review and Proposed Rule

E. Discussion

6. Review of Protected Species Interactions in the Hawaii Longline Fishery

A. Overview of Protected Species Interactions

B. Fishing Effort and Spatial Trends

C. Sea Turtle Interactions

i. Observed and Expanded Interactions

ii. Sea Turtle Abundance Trends

iii. ESA Consultation Analyses

iv. Discussion

D. Seabird Interactions

i. Observed and Expanded Interactions

ii. Albatross Abundance Trends

iii. Ongoing Research to Assess Seabird Catch Rates

iv. Discussion

E. Discussion on Interaction Trends and Analysis Needs

7. Public Comment

9 a.m., Thursday, May 28, 2015

8. Monitoring the Fishery Ecosystem Plans (FEP) through Annual Reports

A. Annual Report Outline and Review Schedules

B. Considerations for Monitoring Protected Species Interactions

C. Statistical Control Chart Approach for Monitoring Protected Species Interactions

D. Discussion on Effective Monitoring of Protected Species under the FEP Annual Reports

9. Council's Research Priorities

A. Five-year Research Priorities

B. Cooperative Research Priorities

C. Discussion

10. Public Comment

11. Committee Discussion and Recommendations

12. Other Business & Next Meeting

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 5, 2015.
Tracey L. Thompson,
Acting Deputy Director, Office of Sustainable Fisheries, National Marine Fisheries Service.

[FR Doc. 2015-11117 Filed 5-7-15; 8:45 am]

BILLING CODE 3510-22-P